DEPARTMENT OF ENERGY

Federal Energy Regulatory Commission

[Project No. 14066-001]

Inside Passage Electric Cooperative; Notice of Intent To File License Application, Filing of Pre-Application Document, and Approving Use of the Traditional Licensing Process

a. Type of Filing: Notice of Intent to File License Application and Request to Use the Traditional Licensing Process.

b. Project No.: 14066-001.

c. Date Filed: October 28, 2011.

d. Submitted By: Inside Passage Electric Cooperative (IPEC).

e. Name of Project: Gartina Falls Hydroelectric Project.

f. Location: On Gartina Creek, near Hoonah, Alaska, on Chichagof Island. No federal lands are occupied by the project works.

g. Filed Pursuant to: 18 CFR 5.3 of the Commission's regulations.

h. Potential Applicant Contact: Peter Bibb, Inside Passage Electric Cooperative, P.O. Box 210149, 12480 Mendenhall Loop Rd, Auke Bay 99821; (907) 789-3196; email—pbibb@ak.net.

i. FERC Contact: Ryan Hansen at (202) 502-8074; or email at ryan.hansen@ferc.gov.

j. IPEC filed its request to use the Traditional Licensing Process on October 28, 2011. IPEC provided public notice of its request on November 22, 2011. In a letter dated December 2, 2011, the Director of the Division of Hydropower Licensing approved IPEC's request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Alaska State Historic Preservation Officer, as required by section 106, National Historical Preservation Act, and the implementing regulations of the Advisory Council on Historic Preservation at 36 CFR 800.2.

l. With this notice, we are designating IPEC as the Commission's non-federal representative for carrying out informal consultation, pursuant to section 7 of the Endangered Species Act, section 305 of the Magnuson-Stevens Fishery Conservation and Management Act, and section 106 of the National Historic Preservation Act.

m. IPEC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-(866) 208-3676, or for TTY, (202) 502-8659. A copy is also available for inspection and reproduction at the address in paragraph h.

o. Register online at http://www.ferc.gov/docs-filing/esubscription.asp to be notified via email of new filing and issuances related to this or other pending projects. For assistance, contact FERC Online Support.

Dated: December 2, 2011.
Kimberly D. Bose,
Secretary.

[FR Doc. 2011-31517 Filed 12-7-11; 8:45 am]

BILLING CODE 6717-01-P